DEPARTMENT OF EDUCATION

[CFDA NO. 84.334]

Office of Postsecondary Education, Gaining Early Awareness and Readiness for Undergraduate Programs; Notice Inviting Applications for New Awards for Fiscal Year 2000

Purpose of Program

The purpose of this program is to give more elementary school, middle school, and secondary school low-income students the skills, motivation, and preparation needed to pursue postsecondary education. Through early college preparation and awareness activities, eligible students are provided comprehensive mentoring, counseling, outreach and supportive services, including information to students and their parents about the benefits of postsecondary education and the availability of Federal financial assistance to attend college. Through the scholarship component, which is mandatory for State grants and optional for Partnership grants, eligible students are provided scholarships for higher education.

Eligible Applicants

1. Partnerships with at least—

• One institution of higher education. This may be any degree-granting two-year or four-year college or university;

• One local educational agency (school district) on behalf of one or more schools with a 7th grade and the high school(s) that the students at these middle schools would normally attend. Generally, at least 50 percent of the students attending the participating school with a 7th grade must be eligible for free or reduced-price lunches. However, as an alternative, Partnerships may choose to work with one or more grade levels of students, beginning not later than the 7th grade, who reside in public housing; and

• Two additional organizations, such as businesses, professional associations, community-based organizations, State Agencies, elementary schools, philanthropic organizations, religious groups, and other public or private organizations.

2. State Agencies as designated by the State's Governor, one per State.

Applications Available: April 27, 2000.

Deadline for Transmittal of Applications: June 26, 2000.

Deadline for Intergovernmental Review: August 25, 2000.

Available Funds: $47,000,000.

Estimated Average Awards: No minimum, maximum or average award has been established for Partnership grants. The size of each Partnership grant will depend on the number of students served. However, there is a maximum annual Federal contribution of $800 per student for Partnership grants.

For State grants, the estimated average award is $1.5 million to $2 million with a $5 million maximum and no minimum award.

Estimated Number of Awards: 6 State grant awards and 74 partnership grant awards.

Note: The Department is not bound by any estimates in this notice.

Project Period: Up to 60 months, unless the Department announces that Congress has passed a technical amendment to the contrary.

Selection Criteria

The Secretary uses the selection criteria in accordance with 34 CFR 75.209 and 75.210 to evaluate applications for Gaining Early Awareness and Readiness for Undergraduate Programs. The application package includes selection criteria and the points assigned to the criteria.

Priorities

Competitive Priorities

Competitive Preference Priority

Providing Program Services in an Empowerment Zone or Enterprise Community (For Partnership or State grants)—Under 34 CFR 75.105(c)(2)(i) and 34 CFR 694.17(a), the Secretary gives competitive preference to an application for a partnership or State grant that serves a substantial number or percentage of students who reside in an Empowerment Zone, a supplemental Empowerment Zone, or an Enterprise Community.

The Secretary will select an application that meets this priority over an application of comparable merit that does not meet the priority.

Invitational Priority

Scholarships (For Partnerships grants only)—Under 34 CFR 75.105(c)(1) and 34 CFR 694.17(b) the Secretary is particularly interested in applications that meet the invitations priority for establishing or maintaining a financial assistance program that awards scholarships to students either in accordance with section 404E of the Higher Education Act of 1965, as amended, or in accordance with 34 CFR 694.12. However, an application that meets this invitational priority does not receive competitive or absolute preference over other applications.

For Applications or Information Contact

Rafael Ramirez, Office of Postsecondary Education, U.S. Department of Education, 1900 K Street, NW, Room 6252, Washington, DC 20006. Telephone 1-800-USA-LEARN, email gearup@ed.gov or fax your request to (202) 502-7675. Individuals who use a telecommunications device for the deaf (TDD) may call the Federal Information Relay Service (FIRS) at 1-800-877-8339.

Individuals with disabilities may obtain the GEAR UP application in an alternate format (e.g., Braille, large print, audiotape, or computer diskette) upon request to Rafael Ramirez, whose contact information is listed in the preceding paragraph. Individuals with disabilities may obtain a copy of the application package in an alternate format, also, by contacting that person. However, the Department is not able to reproduce in an alternate format the standard forms included in the application package.

Electronic Access to This Document

You may view this document, as well as all other Department of Education documents published in the Federal Register in text or Adobe Portable Document Format (PDF) on the Internet at the following sites:

http://ocfo.ed.gov/fedreg.htm

http://www.ed.gov/news.html

http://www.ed.gov/gearup

To use the PDF you must have the Adobe Acrobat Reader Program with Search, which is available free at the previous sites. If you have any questions about using the PDF, call the U.S. Government Printing Office (GPO), toll free, at 1-888-293-6498, or in the Washington DC, area at (202) 512-1530.

Note: The official version of this document is the document published in the Federal Register. Free Internet access to the official edition of the Federal Register and Code of Federal Regulations is available on GPO Access at: http://www.access.gpo.gov/nara/index.html.

Program Authority: 20 U.S.C. 1070a-21.

Dated: April 14, 2000.
A. Lee Fritschler,
Assistant Secretary, Office of Postsecondary Education.

[FR Doc. 00-10325 Filed 4-26-00; 8:45 am]

BILLING CODE 4000-01-U